NATIONAL AERONAUTICS AND SPACE ADMINISTRATION

[Notice: (11-005)]

NASA Advisory Council; Space Operations Committee; Meeting.

AGENCY: National Aeronautics and Space Administration.

ACTION: Notice of meeting.

SUMMARY: In accordance with the Federal Advisory Committee Act, Public Law 92-463, as amended, the National Aeronautics and Space Administration announces a meeting of the NASA Advisory Council (NAC) Space Operations Committee.

DATES: Tuesday, February 8, 2011, 8 a.m.-5 p.m., Local Time.

ADDRESSES: NASA Headquarters, 300 E Street, SW., Room 7C61, Washington, DC 20546.

FOR FURTHER INFORMATION CONTACT: Mr. Jacob Keaton, Space Operations Mission Directorate, National Aeronautics and Space Administration Headquarters, Washington, DC 20546, 202/358-1507, jacob.keaton@nasa.gov.

SUPPLEMENTARY INFORMATION: The agenda for the meeting includes the following topics:

—International Space Station Program Update

—Space Shuttle Program Update

—Space Communication and Navigation Program Update

—Heavy Lift Development Update

—Commercial Crew Development Program Update

—Recommendation Preparation and Discussion

The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Space Operations Committee meeting in the Space Operations Center room 7C61 before receiving an access badge. All non-U.S citizens must fax a copy of their passport, and print or type their name, current address, citizenship, company affiliation (if applicable) to include address, telephone number, and their title, place of birth, date of birth, U.S. visa information to include type, number, and expiration date, U.S. Social Security Number (if applicable), and place and date of entry into the U.S., fax to Jacob Keaton, NASA Advisory Council Space Operations Committee Executive Secretary, FAX: (202) 358-3934, by no later than Tuesday, February 1, 2011. To expedite admittance, attendees with U.S. citizenship can provide identifying information no later than 12 p.m., local time, February 4, 2011, by contacting Jacob Keaton via e-mail at jacob.keaton@nasa.gov or by telephone at (202) 358-1507 or fax: (202) 358-3934.

Dated: January 13, 2011.
P. Diane Rausch,
Advisory Committee Management Officer, National Aeronautics and Space Administration.

[FR Doc. 2011-1152 Filed 1-19-11; 8:45 am]

BILLING CODE 7510-13-P